NUCLEAR REGULATORY COMMISSION

Application for License To Export Major Components for Nuclear Reactors

Pursuant to 10 CFR 110.70(b)(1) “Public notice of receipt of an application,” please take notice that the Nuclear Regulatory Commission has received the following request for an export license. Copies of the request are available electronically through ADAMS and can be accessed through the Public Electronic Reading Room (PERR) link http://www.nrc.gov/NRC/ADAMS/index.html at the NRC home page.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of an application for a license to export major components of a utilization facility as defined in 10 CFR part 110 and noticed herein, the Commission does not evaluate the health, safety or environmental effects in the recipient nation of the facility to be exported. The information concerning the application follows.

NRC Export License Application for Major Components for Nuclear Reactors
Name of applicant Date of application Date received Application No., Docket No. | Description | End use | Country of destination
Curtiss-Wright Electro-Mechanical Corporation March 18, 2005 | Five (5) complete reactor coolant pumps, including motors, related equipment and spare parts as specified in 10 CFR Part 110 Appendix A item (4) | Qinshan Phase 2, Units 1, 2, 3, and 4 Nuclear Power Reactors | People's Republic of China.
March 21, 2005 XR170 11005552 | Approximate Dollar Value: Proprietary

Dated this 12th day of April 2005 at Rockville, Maryland.
For the Nuclear Regulatory Commission.
Margaret M. Doane,
Deputy Director, Office of International Programs.

[FR Doc. 05-8266 Filed 4-25-05; 8:45 am]

BILLING CODE 7590-01-P